DEPARTMENT OF COMMERCE

International Trade Administration

[A-570-002]

Chloropicrin From the People's Republic of China: Final Results of the Expedited Sunset Review of the Antidumping Duty Order

AGENCY: Import Administration, International Trade Administration, Department of Commerce.

SUMMARY: On July 1, 2009, the Department of Commerce (“the Department”) initiated a sunset review of the antidumping duty order on chloropicrin from the People's Republic of China (“PRC”) pursuant to section 751(c) of the Tariff Act of 1930, as amended (“the Act”). See Initiation of Five-year (“Sunset”) Review, 74 FR 31412 (July 1, 2009); see also Antidumping Duty Order; Chloropicrin from the People's Republic of China, 49 FR 10691 (March 22, 1984) (“Order”). Based on the notice of intent to participate and adequate response filed by the domestic interested parties, and the lack of response from any respondent interested party, the Department conducted an expedited sunset review of the Order pursuant to section 751(c)(3)(B) of the Act and 19 CFR 351.218(e)(1)(ii)(C)(2). As a result of this sunset review, the Department finds that revocation of the Order would likely lead to continuation or recurrence of dumping, at the levels indicated in the “Final Results of Sunset Review” section of this notice, infra.

DATES: Effective Date: November 6, 2009.

FOR FURTHER INFORMATION CONTACT: Jennifer Moats, AD/CVD Operations, Import Administration, International Trade Administration, U.S. Department of Commerce, 14th Street and Constitution Avenue, NW., Washington, DC 20230; telephone: (202) 482-5047.

SUPPLEMENTARY INFORMATION: On July 1, 2009, the Department initiated a sunset review of the order on chloropicrin pursuant to section 751(c) of the Act. See Sunset Initiation, 74 FR 31412. On July 13, 2009, the Department received a timely notice of intent to participate in the sunset review from Ashta Chemicals, Inc. (“Ashta”), Niklor Chemical Company, Inc. (“Niklor”), and Trinity Manufacturing, Inc. (“Trinity”), domestic interested parties, pursuant to 19 CFR 351.218(d)(1)(i). On July 31, 2009, Ashta, Niklor, and Trinity filed a timely substantive response within 30 days after the date of publication of the Sunset Initiation. The Department did not receive a substantive response from any respondent interested party in the sunset review. As a result, pursuant to section 751(c)(3)(B) of the Act and 19 CFR 351.218(e)(1)(ii)(C)(2), the Department conducted an expedited sunset review of the Order.

Scope of the Order

The merchandise subject to this antidumping duty order is chloropicrin, also known as trichloronitromethane. A major use of the product is as a pre-plant soil fumigant (pesticide). Such merchandise is currently classifiable under Harmonized Tariff Schedule (“HTS”) item number 2904.90.50.05.¹ The HTS item number is provided for convenience and customs purposes. The written description remains dispositive.

¹ In 2004, a new HTS category was developed and identified specifically for imports of chloropicrin i.e., 2904.90.50.05. Previously, the HTS category that included chloropicrin was 2904.90.50.

Analysis of Comments Received

A complete discussion of all issues raised in this sunset review is addressed in the accompanying Issues and Decision Memorandum, which is hereby adopted by this notice. See “Issues and Decision Memorandum for the Final Results in the Expedited Sunset Review of the Antidumping Duty Order on Chloropicrin from the People's Republic of China,” from John M. Andersen, Acting Deputy Assistant Secretary, to Ronald Lorentzen, Assistant Secretary for Import Administration, dated concurrent with this notice (“I&D Memo”). The issues discussed in the accompanying I&D Memo include the likelihood of continuation or recurrence of dumping and the magnitude of the dumping margin likely to prevail if the Order was revoked. Parties can obtain a public copy of the I&D Memo on file in the Central Records Unit, room 1117, of the main Commerce building. In addition, a complete public version of the I&D Memo can be accessed directly on the Web at http://ia.ita.doc.gov/frn. The paper copy and electronic version of the I&D Memo are identical in content.

Final Results of Review

The Department determines that revocation of the Order on chloropicrin would likely lead to continuation or recurrence of dumping at the rates listed below:

Manufacturers/exporters/ producers | Weighted-average margin (percent)
China National Chemicals Import and Export Corp. (SINOCHEM) | 58.0
PRC-Wide Entity | 58.0

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: October 29, 2009.
John M. Andersen,
Acting Deputy Assistant Secretary for Antidumping and Countervailing Duty Operations.

[FR Doc. E9-26859 Filed 11-5-09; 8:45 am]

BILLING CODE 3510-DS-P